ENVIRONMENTAL PROTECTION AGENCY

[FRL-8581-6]

Science Advisory Board Staff Office; Clean Air Scientific Advisory Committee (CASAC); Notification of a Public Advisory Committee Meeting and Teleconference of the CASAC Sulfur Oxides (SOx) Review Panel

AGENCY: Environmental Protection Agency (EPA).

ACTION: Notice.

SUMMARY: The Environmental Protection Agency (EPA) Science Advisory Board (SAB) Staff Office announces a public meeting and a teleconference of the Clean Air Scientific Advisory Committee's (CASAC) Sulfur Oxides (SOx) Review Panel (Panel) to conduct a peer review of both EPA's Integrated Science Assessment for Sulfur Oxides—Health Criteria (Second External Review Draft) (EPA/600/R-08/047) as well as EPA's forthcoming document: Risk and Exposure Assessment to Support the Review of the SO2 Primary National Ambient Air Quality Standards: First Draft.

DATES: The meeting will be held on Wednesday, July 30, 2008 from 8:30 a.m. to 5 p.m. and Thursday, July 31, 2008 from 8:30 a.m. to 2 p.m. (Eastern time). The public teleconference will be held on August 12, 2008 from 11 a.m. to 1 p.m.

Location: The meeting will take place at the Marriott at Research Triangle Park, 4700 Guardian Drive, Durham, NC 27703, telephone (919) 941-6200.

FOR FURTHER INFORMATION CONTACT: Any member of the public who wishes to submit a written or brief oral statement (5 minutes or less) or wants further information concerning this meeting must contact Dr. Holly Stallworth, Designated Federal Officer (DFO), EPA Science Advisory Board (1400F), U.S. Environmental Protection Agency, 1200 Pennsylvania Avenue, NW., Washington, DC 20460; via telephone/voice mail: (202) 343-9867; fax: (202) 233-0643; or e-mail at Stallworth.holly@epa.gov. General information concerning the CASAC or the EPA Science Advisory Board can be found on the SAB Web site at http://www.epa.gov/sab.

SUPPLEMENTARY INFORMATION: Background: The Clean Air Scientific Advisory Committee (CASAC) was established under section 109(d)(2) of the Clean Air Act (CAA or ACT) (42 U.S.C. 7409) as an independent scientific advisory committee. CASAC provides advice, information and recommendations on the scientific and technical aspects of air quality criteria and national ambient air quality standards (NAAQS) under section 109 of the Act. The CASAC is a federal advisory committee chartered under the Federal Advisory Committee Act (FACA), as amended, 5 U.S.C., App. The Panel will comply with the provisions of FACA and all appropriate SAB Staff Office procedural policies.

Under the Clean Air Act, EPA is required to carry out a periodic review and revision, as appropriate, of the air quality criteria and the NAAQS for six criteria air pollutants, which include sulfur oxides. Primary standards set limits to protect public health, including the health of “sensitive” populations such as asthmatics, children, and the elderly.

EPA is in the process of reviewing the primary National Ambient Air Quality Standards (NAAQS) for sulfur oxides. As part of that process, EPA's Office of Research and Development (EPA-ORD) issued the first draft of its Integrated Science Assessment for Sulfur Oxides—Health Criteria (EPA/600/R-07/108) in September of 2007 and received CASAC's advice in a public meeting on December 6-7, 2007 as well as in a letter to the Administrator on January 9, 2008. EPA-ORD has now updated and revised its draft document, Integrated Science Assessment for Sulfur Oxides—Health Criteria (Second External Review Draft, EPA/600/R-08/047). EPA's Office of Air and Radiation (EPA-OAR) released its Sulfur Oxides Health Assessment Plan: Scope and Methods for Exposure and Risk Assessment in November 2007 and received consultative advice from CASAC in the public meeting of December 6-7, 2007. EPA-OAR is completing its draft document: Risk and Exposure Assessment to Support the Review of the SO2 Primary National Ambient Air Quality Standards: First Draft. The purpose of the July 30-31 meeting is for the CASAC Panel to conduct a review of these two documents. The purpose of the August 12, 2008 teleconference is for the CASAC to finalize its draft advisory report on the Agency's Risk and Exposure Assessment.

Technical Contact: Any questions concerning EPA's Integrated Science Assessment for Sulfur Oxides—Health Criteria (Second External Review Draft) should be directed to Dr. Jee Young Kim in EPA's Office of Research and Development at 919-541-4157 or kim.jee-young@epa.gov. Any questions concerning EPA's Risk and Exposure Assessment to Support the Review of the SO2 Primary National Ambient Air Quality Standards: First Draft should be directed to Dr. Stephen Graham in EPA's Office of Air and Radiation at 919-541-4344 or graham.stephen@epa.gov.

Availability of Meeting Materials: EPA-ORD's Integrated Science Assessment for Sulfur Oxides—Health Criteria (Second External Review Draft) can be accessed at http://cfpub.epa.gov/ncea/cfm/recordisplay.cfm?deid=190346. EPA-OAR's Risk and Exposure Assessment to Support the Review of the SO2 Primary National Ambient Air Quality Standards: First Draft will be available at http://www.epa.gov/ttn/naaqs/standards/so2/s_so2_index.html. Agendas and materials in support of the CASAC meeting and teleconference will be available on the SAB Web site at http://www.epa.gov/sab in advance of the meeting.

Procedures for Providing Public Input: Interested members of the public may submit relevant written or oral information for the CASAC Panel to consider during the advisory process. Oral Statements: In general, individuals or groups requesting an oral presentation at a public meeting will be limited to 5 minutes per speaker, with no more than a total of 1 hour for all speakers. Interested parties should contact Dr. Stallworth, DFO, in writing (preferably via e-mail) by July 25, 2008 at the contact information noted above, to be placed on the public speaker list for this meeting. Written Statements: Written statements should be received in the SAB Staff Office by July 25, 2008, so that the information may be made available to the Panel for their consideration prior to this meeting. Written statements should be supplied to the DFO in the following formats: one hard copy with original signature (optional), and one electronic copy via e-mail (acceptable file format: Adobe Acrobat PDF, WordPerfect, MS Word, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: June 11, 2008.
Vanessa T. Vu,
Director, EPA Science Advisory Board Staff Office.

[FR Doc. E8-13843 Filed 6-17-08; 8:45 am]

BILLING CODE 6560-50-P